DEPARTMENT OF COMMERCE

National Oceanic and Atmospheric Administration

RIN 0648-XD546

Notice of Availability of the Draft NOAA Restoration Center Programmatic Environmental Impact Statement

AGENCY: National Marine Fisheries Service (NMFS), National Oceanic and Atmospheric Administration (NOAA), Commerce.

ACTION: Notice of Availability of a Draft Programmatic Environmental Impact Statement; request for comments.

SUMMARY: NMFS announces the availability of the NOAA Restoration Center Programmatic Environmental Impact Statement. Publication of this notice begins the public comment period for this Draft Programmatic Environmental Impact Statement (DPEIS). The purpose of the DPEIS is to evaluate, in compliance with the National Environmental Policy Act (NEPA), the potential direct, indirect, and cumulative impacts of implementing the alternative programmatic approaches to coastal habitat restoration within the NOAA Restoration Center and other NOAA programs implementing similar habitat restoration activities.

DATES: Interested parties should provide written comments by March 20, 2015.

ADDRESSES: Interested parties that wish to send comments may send an email to rc.compliance@noaa.gov. Interested parties that wish to send comments through regular mail may use the following mailing address: NOAA Restoration Center (F/HC3), ATTN: Restoration DPEIS Comments, 1315 East West Highway, Silver Spring, MD 20910. The NOAA Restoration Center Web site that contains information and updates relevant to this DPEIS can be found at: http://www.restoration.noaa.gov/environmentalcompliance.

FOR FURTHER INFORMATION CONTACT: Melanie Gange at 301-427-8664 or via the following email address: rc.compliance@noaa.gov.

SUPPLEMENTARY INFORMATION:

Background

In the DPEIS, NOAA proposes to fund or otherwise implement coastal habitat restoration activities through its existing programmatic framework and related procedures. NOAA contains multiple programs that carry out habitat restoration projects throughout the coastal United States, which includes the Great Lakes and territories. Many of these programs are housed within the National Marine Fisheries Service, Office of Habitat Conservation's Restoration Center (NOAA RC). Projects implemented by NOAA vary in terms of their size, complexity, geographic location and NOAA involvement, and often benefit a wide range of habitat types and affect a number of different species. Fish passage, hydrologic/tidal reconnection, shellfish restoration, coral recovery, salt marsh and barrier island restoration, erosion prevention, debris removal, and invasive species removal, are all examples of project types implemented by NOAA through its various programs.

The DPEIS includes a suite of restoration approaches that NOAA proposes will most effectively conserve and restore the coastal and marine resources under NOAA trusteeship. This analysis builds upon and replaces the Programmatic Environmental Assessment (PEA) and Supplemental (SPEA) published in 2002 and 2006, respectively. The analyses in the PEA and SPEA, where relevant, along with NOAA's analyses of individual project impacts, have informed the updated analyses in this DPEIS. NOAA believes that this DPEIS will promote an efficient NEPA compliance process for future NOAA-supported habitat restoration activities, through various programs.

Alternatives: This document provides a programmatic-level environmental analysis to support NOAA's proposal to continue habitat restoration activities involving trust resources throughout the coastal United States. The DPEIS takes a broad look at issues and programmatic-level alternatives (compared to a document for a specific project or action) and provides guidance for future restoration activities to be carried out by NOAA. In addition to providing a programmatic analysis, NOAA intends to use this document to approve future site-specific actions, including grant actions, so long as the activity being proposed is within the range of alternatives and scope of potential environmental consequences considered within this NEPA analysis. Any future site-specific restoration activities proposed by NOAA that are not within the scope of alternatives or environmental consequences considered in this PEIS will require additional analysis under NEPA.

NOAA has determined that two alternatives are reasonable and meet the purpose and need. These are Alternative 1—Current Management and Alternative 2—Technical Assistance.

“Current Management,” the No Action Alternative, is a comprehensive restoration approach that includes activities such as technical assistance, on-the-ground riverine and coastal habitat restoration activities, and land and water acquisition activities. For programmatic analyses of on-going programs, where program activities are being analyzed as opposed to a single specific project action, the No Action Alternative can be interpreted as “no change from current management” (CEQ 40 Questions, 46 FR 18026 (March 23, 1981). Riverine and coastal habitat restoration activities in this alternative include but are not limited to, fish passage projects; channel, bank and floodplain restoration; buffer area and watershed revegetation; saltmarsh restoration; oyster restoration; marine debris removal; submerged aquatic vegetation restoration; invasive species removal; and coral restoration.

“Technical Assistance” is an alternative approach that includes no on-the-ground restoration, and is limited to activities including project planning, modeling, feasibility studies, engineering and design studies, and permitting activities.

Impacts Analysis: This DPEIS presents NOAA's restoration activities and their environmental consequences grouped into three categories of restoration activities: Technical assistance; on-the-ground riverine and coastal habitat restoration activities; and land and water acquisition activities. All three of these restoration categories comprise the “Current Management” alternative. Technical assistance activities are typically minimally-intrusive, relatively low-cost and do not require extensive on-the-ground activities to be implemented. On-the-ground restoration activities include all of the physical riverine and coastal restoration that the NOAA RC supports. Land and water acquisition activities involve transactions of ownership, usage rights, or access. This alternative is anticipated to have typically long-term beneficial and short-term adverse impacts on the affected environment of various magnitudes and intensities, which are described in the DPEIS.

The “Technical Assistance” alternative relies heavily, if not exclusively, on external sources of funding to conduct on-the-ground implementation. NOAA resources would only be focused on advisory or technical assistance aspects of the restoration work. The technical assistance activities would generally cause mostly indirect, long-term beneficial impacts, with short-term adverse impacts for more intrusive monitoring and sampling techniques.

Request for Comment: The publication date of this notice constitutes the start of the comment period under NEPA for the PEIS. NOAA encourages all parties with an interest in or who are affected by habitat restoration activities to provide suggestions and comments. Comments are specifically requested regarding the alternatives, scope of analysis, assessment of impacts, and the process described in Appendix A for determining which future projects are covered by this analysis. For more detailed background information, including program descriptions, restoration project types, and the previously mentioned environmental assessment documents, please visit the NOAA Restoration Center Web site. Interested parties should provide written comments by March 20, 2015.

Authority: 16 U.S.C. 661; 16 U.S.C. 1891a.

Dated: January 26, 2015.
Frederick C. Sutter,
Director, Office of Habitat Conservation, National Marine Fisheries Service.

[FR Doc. 2015-01744 Filed 1-28-15; 8:45 am]

BILLING CODE 3510-22-P